DEPARTMENT OF TRANSPORTATION

Federal Motor Carrier Safety Administration

[Docket No. FMCSA-2010-0143]

Motor Carrier Safety Advisory Committee Public Meeting

AGENCY: Federal Motor Carrier Safety Administration (FMCSA), DOT.

ACTION: Notice of Motor Carrier Safety Advisory Committee meeting.

SUMMARY: FMCSA announces that its Motor Carrier Safety Advisory Committee (MCSAC) will hold a three-day committee meeting concerning distracted driving by commercial motor vehicle (CMV) operators, from June 8 through June 10, 2010. This meeting is open to the public.

DATES: Meeting dates: The meeting will be held on the following dates: Tuesday, June 8, from 8:30 a.m. to 5 p.m.; Wednesday, June 9, from 8:30 a.m. to 4:30 p.m.; and Thursday, June 10, 2010, from 8:30 a.m. to 3:30 p.m., Eastern Standard Time.

Location: Hilton Alexandria Old Town, Washington and Jefferson Rooms, 2nd Floor, 1767 King Street, Alexandria, VA 22314 (located across the street from the King Street Metrorail Station).

Subject: FMCSA will request that MCSAC provide information, concepts, and ideas on ways to prevent distracted driving by commercial motor vehicle operators, with a particular emphasis on in-cab technologies and activities. This task will assist FMCSA in identifying options for addressing driver distraction associated with certain in-cab technologies. This activity is separate from FMCSA's current rulemaking concerning texting and the Agency's forthcoming rulemaking concerning the use of wireless telephones. In addition, FMCSA will seek information, and ideas for consideration in updating the Agency's Strategic Plan.

FOR FURTHER INFORMATION CONTACT: Ms. Shannon L. Watson, Senior Management Analyst, Strategic Planning and Program Evaluation Division, Office of Policy Plans and Regulation, Federal Motor Carrier Safety Administration, U.S. Department of Transportation, 1200 New Jersey Avenue, SE., Washington, DC 20590, (202) 385-2395, or e-mail mcsac@dot.gov.

SUPPLEMENTARY INFORMATION:

I. Background

Section 4144 of the Safe, Accountable, Flexible, Efficient Transportation Equity Act: A Legacy for Users (SAFETEA-LU) (Pub. L. 109-59, 119 Stat. 1144, August 10, 2005) required the Secretary of Transportation to establish a Motor Carrier Safety Advisory Committee. The committee provides advice and recommendations to the FMCSA Administrator on motor carrier safety programs and regulations and operates in accordance with the Federal Advisory Committee Act (5 U.S.C. App 2).

II. Meeting Participation

Comments from the public will be heard orally during the last hour of each day's meeting. To be assured of timely consideration, interested parties may submit written comments on the subject topic by Wednesday, June 2, 2010, to the Federal Docket Management System (FDMS) in Docket Number FMCSA-2010-0143 using any of the following methods:

• Federal eRulemaking Portal: Go to http://www.regulations.gov. Follow the online instructions for submitting comments.

• Fax: 202-493-2251.

• Mail: Docket Management Facility; U.S. Department of Transportation, 1200 New Jersey Avenue, SE., West Building, Room WI2-140, Washington, DC 20590.

• Hand Delivery: U.S. Department of Transportation, 1200 New Jersey Avenue, SE., Room WI2-140, Washington, DC, between 9 a.m. and 5 p.m., Monday through Friday, except Federal holidays.

Issued on: May 19, 2010.
Larry W. Minor,
Associate Administrator for Policy and Program Development.

[FR Doc. 2010-12616 Filed 5-24-10; 8:45 am]

BILLING CODE 4910-EX-P